DEPARTMENT OF AGRICULTURE

Forest Service

Giant Sequoia National Monument Scientific Advisory Board Meeting

AGENCY: Forest Service, USDA.

ACTION: Notice of meeting.

SUMMARY: The Scientific Advisory Board established for the Giant Sequoia National Monument will hold its second meeting, July 17 and 18, 2001. The meeting will be held at the River Island Country Club, 31989 River Island Drive, Porterville, California. Topics for the meeting include: Allow for comments from the public; review and approve the minutes from the meeting held June 12 and 13, 2001; discuss and agree on advice regarding the Proposed Action (June 8, 2001 letter); and discuss the questions presented to the Scientific Advisory Board by the Forest. A final agenda can be obtained by contacting the Designated Federal Official to the Scientific Advisory Board Act Gaffrey or by visiting the Giant Sequoia National Monument web site at www.r5.fs.fed.us/giant_sequoia. Some members of the Scientific Advisory Board may participate in the meeting via telephone. In that event, arrangements will be made to enable the public to listen to all the members participating in the meeting. Scientific Advisory Board meetings are open to public attendance.

DATES: The meeting will begin on July 17, starting 8 a.m. and ending at 5 p.m. A field visit to the southern portion of the Giant Sequoia National Monument is scheduled July 18, from 8 a.m. to 5 p.m.

ADDRESSES: The meeting will be held at River Island Country Club, 31989 River Island Drive, Porterville, CA 93257.

FOR FURTHER INFORMATION CONTACT: To receive further information contact Arthur L. Gaffrey, Designated Federal Official to the Scientific Advisory Board, telephone: (559) 784-1500, extension 111.

SUPPLEMENTARY INFORMATION: A field visit to parts of the Giant Sequoia National Monument may be held as part of the meeting on July 18. The field visit is open to the public. Anyone wishing to attend the field visit must provide his or her own transportation.

Written comments for the Scientific Advisory Board may be submitted to Forest Supervisor Arthur L. Gaffrey, Sequoia National Forest, 900 West Grand Avenue, Porterville, CA 93257.

To ensure adequate seating on July 17, public contact Forest Supervisor Gaffrey, if you are planning to attend. Guidelines for the public participation portion of the Scientific Advisory Board's meeting are as follows: The public will be allowed to address the Scientific Advisory Board during the first 30 minutes of the meeting on July 17. The public must provide a written copy of their presentation for inclusion in the meeting minutes. Each person wishing to make an oral presentation may do so for no more than 5 minutes, depending on the number of people wishing to address the Board. All presentations to the Board must be relative to the science surrounding the development of the Management Plan for the Giant Sequoia National Monument.

Dated: June 26, 2001.
Arthur L. Gaffrey,
Forest Supervisor, Sequoia National Forest.

[FR Doc. 01-16531 Filed 6-29-01; 8:45 am]

BILLING CODE 3410-11-M